DEPARTMENT OF COMMERCE

National Oceanic and Atmospheric Administration

RIN 0648-XG033

Fisheries of the Caribbean, Gulf of Mexico, and South Atlantic; Reef Fish Fishery of the Gulf of Mexico; Exempted Fishing Permit; Correction

AGENCY: National Marine Fisheries Service (NMFS), National Oceanic and Atmospheric Administration (NOAA), Commerce.

ACTION: Notice of receipt of applications for exempted fishing permits; request for comments; correction.

SUMMARY: NMFS announces the receipt of five applications for exempted fishing permits (EFPs) from the Florida Fish and Wildlife Conservation Commission (FWC), Alabama Department of Conservation and Natural Resources (ADCNR), Mississippi Department of Marine Resources (MDMR), Louisiana Department of Wildlife and Fisheries (LDWF), and Texas Parks & Wildlife Department (TPWD). If granted, the EFPs would authorize the applicants, with certain conditions, to set the season(s) for red snapper caught by the private angling component, the Federal charter vessel/headboat (for-hire) component, or both, as applicable, and landed in each respective state. The EFPs would do so by exempting persons from the annual closed Federal fishing seasons if they are landing red snapper in the participating states during the states' open seasons as set by those states, and described in more detail below. These annual closed Federal fishing seasons are the seasonal closure for red snapper which is January 1 through May 31 each year, and the closures that occur based on when NMFS projects that the red snapper annual catch targets will be reached. The private angling component includes state-permitted for-hire vessels and any red snapper landings by these for-hire vessels would be counted against the private angling component quota. However, these state-permitted for-hire vessels would not be able to fish in Federal waters. NMFS would set separate Federal seasons for Federally permitted for-hire vessels and private-anglers not covered by any EFP. Red snapper landings would be monitored by the respective states and the state seasons set under the EFPs would close when a state's assigned quota is reached, or projected to be reached. These studies, to be conducted in the exclusive economic zone (EEZ) of the Gulf of Mexico (Gulf), are intended to test the effectiveness of Gulf state management of recreationally caught red snapper. This notice is republished in its entirety and serves to correct information previously published in the Federal Register on March 12, 2018, concerning FWC, ADCNR, and TPWD application details.

DATES: Written comments must be received on or before April 2, 2018.

ADDRESSES: You may submit comments on the application, identified by “NOAA-NMFS-2018-0029”, by any of the following methods:

• Electronic Submission: Submit all electronic public comments via the Federal e-Rulemaking Portal. Go to www.regulations.gov/#!docketDetail;D=NOAA-NMFS-2018-0029, click the “Comment Now!” icon, complete the required fields, and enter or attach your comments.

• Mail: Submit written comments to Peter Hood, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Peter Hood, 727-824-5305; email: peter.hood@noaa.gov.

SUPPLEMENTARY INFORMATION: The EFPs are requested under the authority of the Magnuson-Stevens Fishery Conservation and Management Act (Magnuson-Stevens Act) (16 U.S.C. 1801 et seq.), and regulations at 50 CFR 600.745(b) concerning exempted fishing.

On March 12, 2018, NMFS published in the Federal Register a notice of receipt of applications for EFPs and requested public comment (83 FR 10683). In that notice, four statements were in error. First, the amount of red snapper requested by FWC was incorrectly stated as 1,305,360 lb (592,101 kg), round weight. This is the amount that Florida used to project its season, which is 20 percent below the requested amount of 1,631,700 lb (740,127 kg), round weight. Also, the FWC proposed response to any overage of the quota in 2018 was not accurately stated; FWC would not reduce the quota for 2019, but would adjust the season in 2019. Next, the published notice contained the statement “Currently, ADCNR is projecting a 47-day season from June 1 through July 17.” That statement is incorrect as the planned season of 47 fishing days for Alabama in 2018 is not intended to consist of consecutive calendar days but instead to consist of weekends only. Therefore, the sentence should read as, “Currently, ADCNR is projecting a season of 47 fishing days.” Finally, the amount of red snapper requested by TPWD was incorrectly stated as 1,056,495 lb (479,218 kg), round weight. This amount was based on the 2017 adjusted recreational quota while the correct amount requested was 1,077,280 lb (488,646 kg), round weight, and is based on the 2018 recreational quota. The previously published comment period deadline of April 2, 2018, remains in effect and all comments received from either the March 12, 2018, or this notice will be considered.

Currently, the recreational harvest of red snapper in the Gulf EEZ is managed, among other measures, through the use of a 2-fish recreational bag limit, 16-inch (40-6 cm), total length (TL) minimum size limit, and separate quotas and annual catch targets (ACTs) for the private angling and Federal for-hire components within the recreational sector. State-permitted for-hire vessels are included in the private angling component, but are not able to fish in Federal waters. The recreational sector for red snapper in or from Federal waters is closed from January 1 through May 31 each year. Prior to June 1 each year, NMFS determines the respective component Federal season lengths based on the ACTs, taking into account red snapper recreational seasons in state waters. The recreational components were established through Amendment 40 to the Fishery Management Plan for the Reef Fish Resources of the Gulf of Mexico (FMP), which allocated red snapper resources between the private angling and Federal for-hire components; established component-specific accountability measures (AMs) through the use of component ACTs to reduce the likelihood of quota overages, and implemented a 3-year sunset provision for the regulations implemented through Amendment 40 (80 FR 22422, April 22, 2015). The sunset provision was subsequently extended for an additional 5 years (through December 31, 2022) by Amendment 45 to the FMP (81 FR 86971, December 2, 2016). The Gulf EEZ recreational quota for red snapper is 6.733 million lb (3.054 million kg), round weight. The current component quotas are 2.848 million lb (1.292 million kg), round weight, for for-hire and 3.885 million lb (1.762 million kg), round weight, for private angling.

The recreational harvest of red snapper is also constrained by section 407(d) of the Magnuson-Stevens Act. This section requires separate quotas for commercial and recreational fishing (which for the purposes of the subsection includes charter fishing), and a prohibition on the retention of fish when each sector quota is reached. Thus, should the total recreational sector quota be reached, recreational fishing in the Gulf EEZ is prohibited.

The marine resource management agencies of the five Gulf states have submitted EFP applications for the recreational harvest of red snapper for the 2018 and 2019 fishing years. These EFPs would be used to test data collection and quota monitoring efforts for state management of red snapper. Under the proposed EFPs, persons landing red snapper in the participating states would be exempt from current Federal regulations authorizing the annual closed Federal fishing seasons (seasonal closure and ACT closure) and, therefore, could fish for and possess red snapper in the EEZ consistent with the state seasons. The timing of state season openings would be determined by each state. Each Gulf state would monitor its respective recreational landings, and if the landings reach, or are projected to reach, the assigned quota, the state would close its season for the remainder of the fishing year. Private anglers and for-hire operators landing red snapper in the states participating in the EFPs would be required to have the appropriate permits and licenses for the states where they will land the fish and abide by any other relevant Federal regulations, including a recreational bag limit of 2 fish per person per day and a minimum size limit of 16 inches (40.6 cm), TL. The following provides an overview of each state's EFP application. More detailed information is provided in the respective applications and can be viewed at website: http://sero.nmfs.noaa.gov/sustainable_fisheries/gulf_fisheries/LOA_and_EFP/2018/RS%20state%20pilot/home.html.

FWC

FWC requests an EFP to conduct a pilot study during the 2018 and 2019 fishing years to test data collection and quota monitoring methodologies for the private angling component. The EFP application does not include federally permitted for-hire vessels. FWC requests that 1,631,700 lb (740,127 kg), round weight, of red snapper from the Gulf recreational private angling component quota be made available each year for fish landed in Florida. This requested quota is based on the proportion of red snapper landed in Florida during 2006 through 2015, except for 2010 landings, which are excluded as a result of the Deepwater Horizon MC252 oil spill. The quota, reduced by a 20 percent buffer to account for management uncertainty, would be the basis for calculating Florida's Special Red Snapper Fishing Season. Private anglers would be required to sign up for the state's Gulf Reef Fish Angler program to land select reef fish species not included in the EFP application and still subject to applicable regulations, as well as red snapper. Red snapper landings would be monitored through the state's Gulf Reef Fish Survey. In addition, anglers would provide landings information through a smartphone/tablet application. For 2018, the projected red snapper fishing season for private anglers would be May 25 through June 17 for the Gulf waters off Florida, based on the requested quota. If recreational landings are less than the assigned quota at the end of this season, and the Federal recreational quota has not been met, fishing could reopen in the fall of 2018 and/or 2019 to land the uncaught portion of the quota. Should the recreational quota be exceeded in 2018, FWC proposes to make adjustments in red snapper regulations to account for the overage in the following year.

ADCNR

The purpose of the EFP requested by ADCNR is to test an Alabama red snapper management program for the private angling component. The EFP application does not include federally permitted for-hire vessels. ADCNR proposes an annual state private angling component quota of 984,291 lb (446,467 kg), round weight, for 2018 and 2019. ADCNR determined that this quota equals 10 percent of the red snapper biomass estimated by university researchers to occur in waters off Alabama. The red snapper biomass is estimated from fishery-independent biomass estimates over the three most recent years that data are available (the years 2014 through 2016 for the 2018 fishing year). For 2018, ADCNR would allow red snapper to be landed in Alabama on weekends (Friday through Sunday) starting on June 1 and continuing until the assigned quota, less 10 percent used as a buffer to prevent quota overages, is reached or projected to be reached. Currently, ADCNR is projecting a season of 47 fishing days. If sufficient quota is available, ADCNR would reopen the season in the fall. The 2019 state private angling recreational season would be determined at a later date. Red snapper landings by anglers fishing from private angler vessels and state-permitted charter vessels would be monitored through a mandatory electronic reporting program. Should the assigned quota be exceeded in 2018, ADCNR proposes a payback of the quota overage for the following year.

MDMR

MDMR is requesting an EFP to determine if a state recreational quota for red snapper can be accurately managed through a state management program for the private angling component. In addition, recreational harvest and biological information on this species would be collected and analyzed by the state. The EFP application does not include federally permitted for-hire vessels. The EFP application requests an annual quota of 137,949 lb (62,573 kg), round weight, of red snapper for the private angling component to be landed in Mississippi for 2018 and 2019. This quota is based on 2017 landings reported to MDMR's mandatory Tails n Scales electronic reporting system. Landings in 2018 and 2019 would be tracked by the state through this same electronic reporting system and managed to the quota, reduced by a 10 percent buffer to prevent quota overages, before closing the season. In addition, landings would be validated by MDMR staff through a dockside survey, phone survey, and visual effort survey conducted by MDMR. The red snapper season would begin on May 1 of each year and remain open until the quota is projected to be reached. Should the assigned quota be exceeded in 2018, MDMR proposes a payback of the quota overage for the following year.

LDWF

The EFP application from the LDWF proposes to test a state-based management approach for red snapper. The application requests that the state recreational quota be 743,000 lb (337,019 kg), round weight, for the private angling component and 317,000 lb (143,789 kg), round weight, for the Federal for-hire component for the 2018 and 2019 fishing years. LDWF determined these quotas based on the historical landings formula (50 percent * [1986-2005, 2007-2009, 2011-2013 landings in pounds] + 50 percent * [2007-2009, 2011-2013 landings in pounds] applied to Federal for-hire and private angling component allocations from Amendment 40 (80 FR 22422, April 22, 2015). LDWF proposes to begin both the private angling and for-hire seasons on May 25 in 2018, and May 24 in 2019 (the Friday before Memorial Day) until the respective quota is reached. The private angling season would consist of 3-day weekends (Friday through Sunday), but also include the Memorial Day, Independence Day, and Labor Day holidays each year. The Federal for-hire season would be 7 days per week. Recreational landings would be monitored through LDWF's LA Creel survey; however, private anglers and for-hire operators would be encouraged to also report landings though a state-approved electronic reporting system. Should the overall recreational quota for the state be exceeded in 2018, LDWF proposes a payback of the overage for the 2019 fishing year.

TPWD

The purpose of the EFP submitted by TPWD is to test data collection and recreational quota monitoring methodologies during the 2018 and 2019 fishing years for use in managing the recreational harvest of red snapper off Texas. TPWD requests 1,077,280 lb (488,646 kg), round weight, of red snapper to be used by the private angling and Federal for-hire components. The red snapper private angling season in state waters begins January 1 each year. Because offshore weather conditions off Texas are generally unfavorable around the traditional June 1 Federal recreational red snapper season start date, TPWD, working through the Texas Parks and Wildlife Commission, proposes to prohibit red snapper caught in Federal waters from being landed in Texas until sometime after June 1 in 2018. At that time, a season will be established allowing red snapper from Federal waters to be landed. In 2019, the recreational season could start prior to June 1 to take advantage of better weather conditions that occur off Texas in the winter and spring and would be determined by the state at a later date. The red snapper recreational harvest would be monitored using the Texas Marine Sport Harvest Monitoring Program (TMSHMP), NOAA`s Southeast Region Headboat Survey, and a self-reported harvest system using the iSnapper application for smartphones and tablets. To ensure timely reporting of private angler and charter vessel landings, intercepts from the TMSHMP creel survey would be sent in daily to TPWD. Additionally, weekly landing reports from NOAA`s Southeast Region Headboat Survey would be used to monitor headboat landings. Texas will project total landings by sector based on the number of red snapper observed by samplers during the season. All red snapper landed in Texas will be counted against Texas' assigned recreational quota and the Texas season would be closed when the combined estimated recreational red snapper landings are projected to reach the recreational quota. Should the assigned quota be exceeded in 2018, TPWD proposes to make adjustments in red snapper regulations such as shortening the season for catching fish in the Gulf EEZ, changing the timing of the season, or revising state bag limits to account for the overage.

Additional Information

The Gulf of Mexico Fishery Management Council (Council) reviewed the EFP applications at its January 2018 meeting. The Council recommended approval of each state's EFP application as long as the length of the Gulf-wide Federal for-hire component season is not affected by the issuance of these EFPs.

Because all the state EFP applications include the private angling component, if they are all issued and accepted that component's overall Gulf quota would be divided among the states, as requested, and landings would be regulated through each state's management program covered under the EFP. Federal waters would be closed to red snapper private angling, but the EFP would exempt from the closure those individuals with a license from a state that is open to land red snapper. However, if not all of the EFPs are issued and accepted, NMFS would set a Gulf-wide Federal private angling season to allow those anglers from the non-participating states to fish for red snapper in the EEZ.

For the Federal for-hire component, only LDWF and TPWD have proposed including this component in their EFPs. Therefore, if EFPs were approved as submitted by the five Gulf states, NMFS would still set a Federal season throughout the entire Gulf EEZ for the Federal for-hire component. Depending on the parameters of any final EFPs, the potential exists for Texas and Louisiana federally permitted for-hire vessels to fish during both the state season covered under an EFP and the Federal for-hire Gulf EEZ season.

In addition, the quotas requested by Texas and Louisiana are based on higher landings from past years rather than landings in recent years. Because NMFS projects the Federal season based on recent landings, NMFS would have to reduce the length of the Federal for-hire season to account for the additional pounds of fish requested by Texas and Louisiana. This would be inconsistent with the Council's recommendation that NMFS issue the EFPs as long as the length of the Gulf-wide Federal for-hire component season is not affected. Alternatively, NMFS could reduce the quotas requested by Texas and Louisiana to be consistent with recent landings. Regardless of whether both or just one of the components is managed under the state EFPs, should NMFS determine that the Gulf-wide recreational red snapper quota has been met, the exemption from the closure under the EFP would no longer be valid for that fishing year because the retention of red snapper in Federal waters would be prohibited under the regulations that implement the mandatory provisions of Section 407(d) of the Magnuson-Stevens Act.

NMFS finds these applications warrant further consideration. If they are granted, NMFS may include conditions or modifications such as changes to the amount of the quotas assigned to each state and removal of the Federal for-hire component from the EFP. The applications are considered together in this notice because they each would require a portion of the private-angling and Federal for-hire quotas; however, each application is independent and will be considered individually as part of the overall recreational management of Gulf red snapper.

Final decisions on issuance of the EFPs will depend on a NMFS review of public comments received on the applications, consultations with the affected states, the Council, and the U.S. Coast Guard, and a determination that each is consistent with all applicable laws.

Authority: 16 U.S.C 1801 et seq.

Dated: March 15, 2018.
Emily H. Menashes,
Acting Director, Office of Sustainable Fisheries, National Marine Fisheries Service.

[FR Doc. 2018-05603 Filed 3-19-18; 8:45 am]

BILLING CODE 3510-22-P